DEPARTMENT OF THE INTERIOR

Bureau of Land Management

[16X.LLWO350000.L14400000.PN0000]

Renewal of Approved Information Collection; OMB Control No. 1004-0009

AGENCY: Bureau of Land Management, Interior.

ACTION: 30-day notice and request for comments.

SUMMARY: The Bureau of Land Management (BLM) has submitted an information collection request to the Office of Management and Budget (OMB) to continue the collection of information to request approval from individuals, private entities, and State or local governments seeking leases, permits, and easements for the use, occupancy, or development of public lands administered by the BLM. The Office of Management and Budget (OMB) previously approved this information collection activity, and assigned it control number 1004-0009.

DATES: The OMB is required to respond to this information collection request within 60 days but may respond after 30 days. For maximum consideration, written comments should be received on or before March 27, 2017.

ADDRESSES: Please submit comments directly to the Desk Officer for the Department of the Interior (OMB #1004-0009), Office of Management and Budget, Office of Information and Regulatory Affairs, fax 202-395-5806, or by electronic mail at OIRA_submission@omb.eop.gov. Please provide a copy of your comments to the BLM. You may do so via mail, fax, or electronic mail.

Mail: U.S. Department of the Interior, Bureau of Land Management, 1849 C Street NW., Room 2134LM, Attention: Jean Sonneman, Washington, DC 20240.

Fax: Jean Sonneman at 202-245-0050.

Electronic mail: jesonnem@blm.gov.

Please indicate “Attn: 1004-0009” regardless of the form of your comments.

FOR FURTHER INFORMATION CONTACT: Jeffrey Cartwright, at 208-373-3885. Persons who use a telecommunication device for the deaf may call the Federal Relay Service at 1-800-877-8339, to leave a message for Mr. Cartwright. You may also review the information collection request online at http://www.reginfo.gov/public/do/PRAMain.

SUPPLEMENTARY INFORMATION: The Paperwork Reduction Act (44 U.S.C. 3501-3521) and OMB regulations at 5 CFR part 1320 provide that an agency may not conduct or sponsor a collection of information unless it displays a currently valid OMB control number. Until OMB approves a collection of information, you are not obligated to respond. In order to obtain and renew an OMB control number, Federal agencies are required to seek public comment on information collection and recordkeeping activities (see 5 CFR 1320.8(d) and 1320.12(a)).

As required at 5 CFR 1320.8(d), the BLM published a 60-day notice in the Federal Register on September 22, 2016 (81 FR 65391), and the comment period ended November 21, 2016. The BLM received no comments.

The BLM now requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments as directed under ADDRESSES and DATES. Please refer to OMB control number 1004-0009 in your correspondence. Before including your address, phone number, email address, or other personal identifying information in your comment, you should be aware that your entire comment—including your personal identifying information—may be made publicly available at any time. While you can ask us in your comment to withhold your personal identifying information from public review, we cannot guarantee that we will be able to do so.

The following information pertains to this request:

Title: Land Use Application and Permit (43 CFR part 2920).

OMB Control Number: 1004-0009.

Abstract: Section 302 of the Federal Land Policy and Management Act of 1976 (FLPMA) (43 U.S.C. 1732) and regulations at 43 CFR part 2920 authorize the issuance of leases, permits, and easements for the use, occupancy, or development of public lands administered by the BLM. Respondents include individuals, private entities, and State or local governments. A variety of land uses may be authorized under FLPMA Section 302 and 43 CFR part 2920: Commercial filming; advertising displays; commercial or noncommercial croplands; apiaries; livestock holding or feeding areas not related to grazing permits and leases; harvesting of native or introduced species; temporary or permanent facilities for commercial purposes (other than mining claims); ski resorts; construction equipment storage sites; assembly yards; oil rig stacking sites; mining claim occupancy if certain structures are not incidental to the mining operation; and water pipelines and well pumps related to irrigation and non-irrigation facilities. The complexity of the applications can vary widely. Therefore, the burdens to respondents also can vary widely.

Frequency of Collection: On occasion.

Forms: Form 2920-1, Land Use Application and Permit.

Description of Respondents: Individuals, private entities, and State or local governments seeking leases, permits, and easements for the use, occupancy, or development of public lands.

Estimated Annual Responses Annually: 407.

Estimated Reporting and Recordkeeping and Hour Burden Annually: 1,597.

Estimated Reporting and Recordkeeping and Non-Hour Cost Burden Annually: $131,760.

The estimated burdens are itemized in the following table:

Type of response and CFR citation | Number of responses | Hours per response | Total hours (column B × column C)
A | B | C | D
Land Use Application and Permit, Individuals, 43 CFR part 2920, Form 2920-1 | 66 | 1 | 66
Land Use Application and Permit, State and Local Governments, 43 CFR part 2920, Form 2920-1 | 45 | 1 | 45
Land Use Application and Permit, Private Sector/Typical, 43 CFR part 2920, Form 2920-1 | 286 | 1 | 286
Land Use Application and Permit, Private Sector/Complex, 43 CFR part 2920, Form 2920-1 | 10 | 120 | 1,200
Totals | 407 |  | 1,597

Chandra Little,
Acting, Information Collection Clearance Officer, Bureau of Land Management.

[FR Doc. 2017-03603 Filed 2-23-17; 8:45 am]

BILLING CODE 4310-84-P